DEPARTMENT OF THE INTERIOR

Bureau of Land Management

[NV-930-1430-EU; N-63091, N-63092, N-63093, N-63094, N-63095]

Notice of Realty Action: Competitive Sale of Public Lands

AGENCY: Bureau of Land Management.

ACTION: Competitive Sale of Public Lands in White Pine County, Nevada.

SUMMARY: The below listed public land in Snake Valley, White Pine County, Nevada have been examined and found suitable for disposal pursuant to sections 203 and 209 of the Federal Land Policy and Management Act of October 21, 1976 (90 Stat. 2750; 43 U.S.C. 1713, and 1719), and the Federal Land Transaction Facilitation Act of July 25, 2000 (Pub. L. 106-248).

DATES: For a period of 45 days from the date of publication of this notice in the Federal Register, interested parties may submit comments to the Assistant Field Manager, Nonrenewable Resources.

ADDRESSES: Written comments should be addressed to: Bureau of Land Management, Jeffrey A. Weeks, Assistant Field Manager, Nonrenewable Resources, HC 33, Box 33500, Ely, NV 89301-9408.

FOR FURTHER INFORMATION CONTACT: Detailed information concerning the sale, including the reservations, sale procedures and conditions, planning and environmental documents, are available at the Ely Field Office of the Bureau of Land management, 702 North Industrial Way, Ely, Nevada 89301, or by calling Doris Metcalf, Realty Specialist, at the above address or telephone (775) 289-1852. Information will also be available on the Internet at http://www.nv.blm.gov/ely.

SUPPLEMENTARY INFORMATION: The following described parcels of land, situated in White Pine County are being offered as a competitive sale.

Mount Diablo Meridian, Nevada

N-63091 located at:

T. 14 N., R. 71 E.,

Section 30, NW¼SE¼NW¼,

Containing 10.00 acres more or less.

N-63092 located at:

T. 14 N., R. 71 E.,

Section 30, Lot 3,

Containing 7.08 acres more or less.

N-63093 located at:

T. 14 N., R. 71 E.,

Section 30, Lot 4,

Containing 5 acres more or less.

N-63094 located at:

T. 14 N., R. 71 E.,

Section 30, Lot 5,

Containing 5 acres more or less.

N-63095 located at:

T. 14 N., R. 71 E.,

Section 30, Lots 6-7,

Containing 7.20 acres more or less.

This land is not required for any federal purposes. The sale is consistent with current Bureau planning for this area and would be in the public interest.

The subject lands will be sold for at least fair market value as determined by appraisal. The locatable, salable and leasable mineral estates, other than oil and gas, will be conveyed with the surface.

The parcels will be offered for competitive sale by oral auction beginning at 10 a.m. PDT, July 18, 2002, at the Bureau of Land Management, Ely Field Office, 702 North Industrial Way, Ely, NV. Registration for oral bidding will begin at 8:00 a.m. the day of sale and will continue throughout the auction. All bidders are required to register.

The highest qualifying bid for each parcel will be declared the high bid. The apparent high bidder must submit the required bid deposit immediately following the close of the sale in the form of cash, personal check, bank draft, cashiers check, money order, or any combination thereof, made payable to the Bureau of Land Management, for not less than 20 percent of the amount bid.

The remainder of the full bid price must be paid within 180 calendar days of the date of sale. Failure to pay the full price within the 180 days will disqualify the apparent high bidder and cause the bid deposit to be forfeited to the BLM. Federal law requires that bidders must be U.S. citizens 18 years of age or older, a corporation subject to the laws of any State or of the United States; a State, State instrumentality, or political subdivision authorized to hold property; or an entity, including but not limited to associations or partnerships, capable of holding property or interests therein under the law of the State of Nevada. Certification of qualification, including citizenship or corporation or partnership, must accompany the bid deposit. In order to determine the fair market value of the subject public lands through appraisal, certain assumptions have been made on the attributes and limitations of the lands and potential effects of local regulations and policies on potential future land uses. Through publication of this notice, the Bureau of Land Management gives notice that these assumptions may not be endorsed or approved by units of local government.

Furthermore, no warranty of any kind shall be given or implied by the United States as to the potential uses of the lands offered for sale; conveyance of the subject lands will not be on a contingency basis. It is the buyers' responsibility to be aware of all applicable local government policies and regulations that would affect the subject lands. It is also the buyer's responsibility to be aware of existing and potential uses for nearby properties. When conveyed out of federal ownership, the lands will be subject to any applicable reviews and approvals by the respective unit of local government for proposed future uses, and any such reviews and approvals would be the responsibility of the buyer.

The patent, when issued, will contain the following reservation to the United States:

1. A right-of-way thereon for ditches and canals constructed by the authority of the United States, Act of August 30, 1890 (43 U.S.C. 945).

2. All the oil and gas mineral deposits in the land subject to this conveyance, including without limitation, the disposition of these substances under the mineral leasing laws. Its permittees, licensees and lessees, the right to prospect for, mine and remove the mineral owned by the United States under applicable law and such regulations as the Secretary of the Interior may prescribe. This reservation includes all necessary and incidental activities conducted in accordance with the provisions of the mineral leasing laws in effect at the time such activities are undertaken, including, without limitation, necessary access and exit rights, all drilling, underground, or surface mining operation, storage and transportation facilities deemed necessary and authorized under law and implementing regulations.

Unless otherwise provided by separate agreement with surface owner, permittees, licensees, the patent will be subject to the following:

The patent for the lands encompassed by N-63093 and N-63094, will be subject to the following reservation:

1. Those rights for an overhead three phase power transmission line and appurtenances right-of-way granted to Mt. Wheeler Power, Inc., it successors or assignees, by right-of-way No. N-5638, pursuant to the Act of March 4, 1911; (36 Stat. 1253) 43 U.S.C. 961. Right-of-way N-5638 expires June 3, 2026.

The patent for the lands encompassed by N-63095, will be subject to the following reservations:

1. Those rights for an overhead three phase power transmission line and appurtenances granted to Mt. Wheeler Power, Inc., it successors or assignees, by right-of-way No. N-5638, pursuant to the Act of March 4, 1911; (36 Stat. 1253) 43 U.S.C. 961. Right-of-way N-5638 expires June 3, 2026.

2. Those rights for a 10 foot wide right-of-way for an underground telephone cable and appurtenances granted to Nevada Bell, its successors or assignees, by right-of-way. No. N-56940, pursuant to the Act of October 21, 1976; (90 Stat. 2776) 43 U.S.C. 1761. Right-of-way N-56940 expires March 14, 2043.

3. Those rights for a microwave communication site right-of-way granted to Nevada Bell, its successors or assignees, by right-of-way No. N-53455, pursuant to the Act of October 21, 1976; (90 Stat. 2776) 43 U.S.C. 1761. Right-of-way N-56940 expires November 27, 2010.

4. A 30 foot wide road right-of-way from the northwest corner of Lot 9, along the west side of Lot 6, allowing access to Lot 3, and aliquot, SW¼NE¼SW¼, granted to White Pine County.

Upon publication of this notice in the Federal Register, the above described land will be segregated from all other forms of appropriation under the public land laws, including the general mining laws, and leasing under the mineral leasing laws. This segregation will terminate upon issuance of a patent or 270 days from the date of this publication, whichever occurs first.

For a period of 45 days from the date of publication of this notice in the Federal Register, interested parties may submit comments regarding this action to the Assistant Field Manager, Nonrenewable Resources at the address listed above. Any adverse comments will be reviewed by the State Director who may sustain, vacate, or modify this realty action. In absence of any adverse comments, this realty action will become the final determination of the Department of the Interior. The Bureau of Land Management may accept or reject any or all offers, or withdraw any land or interest in the land from sale, if, in the opinion of the authorized officer, consummation of the sale would not be fully consistent with FLPMA, or other applicable laws. The lands will not be offered for sale until at least 60 days after the date of publication of this notice in the Federal Register.

Dated: March 13, 2002.
Jeffrey A. Weeks,
Assistant Field Manager.

[FR Doc. 02-8875 Filed 4-11-02; 8:45 am]

BILLING CODE 4310-HC-P